DEPARTMENT OF COMMERCE

Foreign-Trade Zones Board

[S-52-2024]

Approval of Subzone Status; Jubilant HollisterStier, LLC; Spokane, Washington

On March 19, 2024, the Executive Secretary of the Foreign-Trade Zones (FTZ) Board docketed an application submitted by the Spokane Airport Board, grantee of FTZ 224, requesting subzone status subject to the existing activation limit of FTZ 224, on behalf of Jubilant HollisterStier, LLC, in Spokane, Washington.

The application was processed in accordance with the FTZ Act and Regulations, including notice in the Federal Register inviting public comment (89 FR 20632-20633, March 25, 2024). The FTZ staff examiner reviewed the application and determined that it meets the criteria for approval. Pursuant to the authority delegated to the FTZ Board Executive Secretary (15 CFR 400.36(f)), the application to establish Subzone 224A was approved on May 15, 2024, subject to the FTZ Act and the Board's regulations, including section 400.13, and further subject to FTZ 224's 2,000-acre activation limit.

Dated: May 15, 2024.
Elizabeth Whiteman,
Executive Secretary.

[FR Doc. 2024-11007 Filed 5-17-24; 8:45 am]

BILLING CODE 3510-DS-P